DEPARTMENT OF COMMERCE

National Oceanic and Atmospheric Administration

[I.D. 090904F]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene a public meeting of its Standing and Special Mackerel and Reef Fish Scientific and Statistical Committees (SSCs).

DATES: The meeting will be convened by conference call at 10 a.m. EST on November 1, 2004.

ADDRESSES: See SUPPLEMENTARY INFORMATION for locations of listening stations.

Council address: Gulf of Mexico Fishery Management Council, 3018 North U.S. Highway 301, Suite 1000, Tampa, FL 33619.

FOR FURTHER INFORMATION CONTACT: Richard L. Leard, Deputy Executive Director, Gulf of Mexico Fishery Management Council; telephone: (813) 228-2815.

SUPPLEMENTARY INFORMATION: Persons wishing to listen to the call may do so at the following locations:

1. NMFS Panama City Laboratory, 3500 Delwood Beach Road, Panama City, FL, Contact: Gary Fitzhugh at 850-234-6541, extension 214.

2. NMFS Southeast Regional Office, 9721 North Executive Center Drive, St. Petersburg, FL, Contact: Peter Hood at 727-570-5728.

3. NMFS Pascagoula Laboratory, 3209 Frederic Street, Pascagoula, MS, Contact: Cheryl Hinkel at 228-762-4591.

4. NMFS Galveston Laboratory, 4700 Avenue U, Galveston, TX, Contact: Rhonda O'Toole at 409-766-3500.

The Council will convene its SSCs to review public hearing drafts of Amendment 15 to the Coastal Migratory Pelagics Fishery Management Plan (FMP) and Amendment 24 to the Reef Fish FMP. Each of these amendments contain alternatives to allow the existing commercial permit moratoria to expire, extend the moratoria for 5 or 10 years, or replace the moratoria with permanent limited access systems that would, in essence, maintain the cap on the number of permits indefinitely, or until replaced or eliminated by additional actions by the Council.

Although other non-emergency issues not on the agendas may be discussed by the SSCs, in accordance with the Magnuson-Stevens Fishery Conservation and Management Act, those issues may not be the subject of formal action during these meetings. Actions of the SSCs will be restricted to those issues specifically identified in the agendas and any issues arising after publication of this notice that require emergency action under Section 305(c) of the Magnuson-Stevens Act, provided the public has been notified of the Council's intent to take action to address the emergency.

Special Accommodations

Requests for sign language interpretation or other auxiliary aids should be directed to Dawn Aring at the Council office by September 24, 2004.

Dated: October 8, 2004.
Alan D. Risenhoover,
Acting Director, Office of Sustainable Fisheries, National Marine Fisheries Service.

[FR Doc. E4-2603 Filed 10-13-04; 8:45 am]

BILLING CODE 3510-22-S